DEPARTMENT OF DEFENSE

Department of the Air Force

Notice of Intent To Grant an Exclusive Patent License

AGENCY: Department of the Air Force, Department of Defense.

ACTION: Notice of Intent.

SUMMARY: Pursuant to the Bayh-Dole Act and implementing regulations, the Department of the Air Force hereby gives notice of its intent to grant an exclusive patent license agreement to VyrticalXpress LLC, a corporation of the State of Ohio, having a place of business at 5200 Springfield Road, Suite 300, Dayton, Ohio 45431.

DATES: Written objections must be filed no later than fifteen (15) calendar days after the date of publication of this Notice.

ADDRESSES: Submit written objections to the Air Force Materiel Command Law Office, AFMCLO/JAZ, 2240 B Street, Room 260, Wright-Patterson AFB, OH 45433-7109; Facsimile: (937) 255-3733; or Email: afmclo.jaz.tech@us.af.mil. Include Docket No. ARH-190107B-PL in the subject line of the message.

FOR FURTHER INFORMATION CONTACT: Air Force Materiel Command Law Office, AFMCLO/JAZ, 2240 B Street, Rm. 260, Wright-Patterson AFB, OH 45433-7109; Facsimile: (937) 255-3733; Email: afmclo.jaz.tech@us.af.mil.

SUPPLEMENTARY INFORMATION: The Department of the Air Force intends to grant an exclusive patent license agreement for the invention described in:

—U.S. Patent No. 9,230,549, entitled, “MULTI-MODAL COMMUNICATIONS,” filed May 18, 2011, and issued January 5, 2016.

The Department of the Air Force may grant the prospective license unless a timely objection is received that sufficiently shows the grant of the license would be inconsistent with the Bayh-Dole Act or implementing regulations. A competing application for a patent license agreement, completed in compliance with 35 U.S.C. 209; 37 CFR 404.8 and received by the Air Force within the period for timely objections, will be treated as an objection and may be considered as an alternative to the proposed license.

Henry Williams,
Acting Air Force Federal Register Liaison Officer.

[FR Doc. 2019-01590 Filed 2-7-19; 8:45 am]

BILLING CODE 5001-10-P